DEPARTMENT OF LABOR

Agency Information Collection Activities; Comment Request; Mine Mapping and Records of Opening, Closing, and Reopening of Mines; Correction

ACTION: Notice of availability; Correction

SUMMARY: The Department of Labor (DOL) is correcting a notice that appeared in the Federal Register on October 15, 2021. Subsequent to publication of the notice, the DOL discovered that the Office of Management and Budget (OMB) Control Number listed in the SUPPLEMENTARY INFORMATION section was listed incorrectly. DOL is issuing this correction to provide the correct OMB Control Number.

FOR FURTHER INFORMATION CONTACT: Crystal Rennie by telephone at 202-693-0456 or by email at DOL_PRA_PUBLIC@dol.gov.

SUPPLEMENTARY INFORMATION:

Correction

In FR. Doc. 2021-22488 appearing at 86 FR 57451 in the Federal Register of Friday, October 15, 2021, on page 57451, in the third column, the following correction is made:

1. In the SUPPLEMENTARY INFORMATION section, under the section titled OMB Control Number, correct the OMB Control Number to read, “1219-0073.”

Crystal Rennie,
Senior PRA Analyst.

[FR Doc. 2021-23701 Filed 10-29-21; 8:45 am]

BILLING CODE 4510-43-P